DEPARTMENT OF ENERGY

Federal Energy Regulatory Commission

[Project No. 12451-001]

SAF Hydroelectric, LLC; Notice of Application Tendered for Filing With the Commission, Soliciting Additional Study Requests, and Establishing Procedures for Licensing and a Deadline for Submission of Final Amendments

January 29, 2004.

Take notice that the following hydroelectric application has been filed with the Commission and is available for public inspection.

a. Type of Application: Original major license.

b. Project No.: 12451-001.

c. Date Filed: January 20, 2004.

d. Applicant: SAF Hydroelectric, LLC.

e. Name of Project: Lower St. Anthony Falls Hydroelectric Project.

f. Location: On the Mississippi River, in the Town of Minneapolis, Hennepin County, Minnesota. The project affects Federal lands.

g. Filed Pursuant to: Federal Power Act 16 U.S.C. 791(a)-825(r).

h. Applicant Contact: Douglas A. Spaulding, P.E., Spaulding Consultants, 1433 Utica Avenue South, Suite 162, Minneapolis, MN 55416, (952) 544-8133 or Robert Larson, 33 South 6th Street, Minneapolis, MN 55402, (612) 343-2913.

i. FERC Contact: Kim Carter at (202) 502-6486, or Kim.Carter@ferc.gov.

j. Cooperating Agencies: We are asking Federal, State, local, and tribal agencies with jurisdiction and/or special expertise with respect to environmental issues to cooperate with us in the preparation of the environmental document. Agencies who would like to request cooperating status should follow the instructions for filing comments described in item (l) below.

k. Pursuant to section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for Filing Additional Study Requests and Requests for Cooperating Agency Status: March 22, 2004.

All documents (original and eight copies) should be filed with: Magalie R. Salas, Secretary, Federal Energy Regulatory Commission, 888 First Street, NE., Washington, DC 20426. The Commission's rules of practice require all interveners filing documents with the Commission to serve a copy of that document on each person on the official service list for the project. Further, if an intervener files comments or documents with the Commission relating to the merits of an issue that may affect the responsibilities of a particular resource agency, they must also serve a copy of the document on that resource agency.

Additional study requests may be filed electronically via the Internet in lieu of paper. The Commission strongly encourages electronic filing. See 18 CFR 385.2001(a)(1)(iii) and the instructions on the Commission's Web site (http://www.ferc.gov) under the “e-Filing” link. After logging into the e-Filing system, select “Comment on Filing” from the Filing Type Selection screen and continue with the filing process.

m. Status: This application is not ready for environmental analysis at this time.

n. Description of Project: The proposed Lower St. Anthony Falls Hydroelectric Project would be located at the U.S. Army Corps of Engineers (Corps) Lower St. Anthony Falls Lock and Dam and would utilize 5.9 acres of Corps lands. The generation turbines would be located in an auxiliary lock chamber adjacent to the Corp's main lock chamber. An auxiliary building, storage yard, and buried transmission line would occupy additional Corps lands. The project would operate in a run-of-river mode, according to the Corp's operating criteria which maintains a constant water surface elevation of 750.0 m.s.l. in the 33.5-acre reservoir.

The proposed project would consist of the following features: (1) 16 turbine/generator units grouped in eight steel modules 6.2-foot-wide by 12.76 feet high having a total installed capacity of 8,980 kilowatts, each module contains 2 turbine/generator sets (two horizontal rows of 1 unit each) installed in eight stoplog slots on the auxiliary lock structure; (2) a 1,050-foot-long, 13,800-volt buried transmission line; (3) a 21-foot by 81-foot control building to house switchgear and controls; (4) a 20-foot by 30-foot project office and storage building; and (5) appurtenant facilities.

The applicant estimates that the average annual generation would be about 57,434,000 kilowatt-hours.

o. A copy of the application is available for review at the Commission in the Public Reference Room or may be viewed on the Commission's Web site at http://www.ferc.gov using the “eLibrary” link. Enter the docket number, excluding the last three digits in the docket number field (P-12451), to access the document. For assistance, contact FERC Online Support at FERCOnlineSupport@ferc.gov, or toll-free at 1-866-208-3676, or for TTY, (202) 502-8659. A copy is also available for inspection and reproduction at the address in paragraph (h) above.

p. You may also register online at http://www.ferc.gov/esubscribenow.htm to be notified via e-mail of new filings and issuances related to this or other pending projects. For assistance, contact FERC Online Support.

q. With this notice, we are initiating consultation with the Minnesota State Historic Preservation Officer (SHPO), as required by § 106, National Historic Preservation Act, and the regulations of the Advisory Council on Historic Preservation, 36 CFR 800.4.

r. Procedural Schedule and Final Amendments: The application will be processed according to the following Hydro Licensing Schedule. Revisions to the schedule will be made if the Commission determines it necessary to do so:

Action | Tentative date
Issue Deficiency Letter | March 2004.
Issue Acceptance letter | March 2004.
Issue Scoping Document 1 for comments | May 2004.
Request Additional Information | March 2004.
Notice of application is ready for environmental analysis | January 2005.
Notice of the availability of the EA | May 2005.
Ready for Commission's decision on the application | July 2005.

Unless substantial comments are received in response to the EA, staff intends to prepare a single EA in this case. If substantial comments are received in response to the EA, a final EA will be prepared with the following modifications to the schedule.

Notice of the availability of the final EA: July 2005.

Ready for Commission's decision on the application: September 2005.

Final amendments to the application must be filed with the Commission no later than 30 days from the issuance date of this notice.

Magalie R. Salas,
Secretary.

[FR Doc. E4-191 Filed 2-4-04; 8:45 am]

BILLING CODE 6717-01-P